DEPARTMENT OF DEFENSE

Office of the Secretary

[Transmittal Nos. 12-42]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 12-42 with attached transmittal and policy justification.

Dated: August 22, 2012.
Aaron Siegel,
Alternate OSD Federal Register Liaison Officer, Department of Defense.

BILLING CODE 5001-06-P

BILLING CODE 5001-06-C

Transmittal No. 12-42

Notice of Proposed Issuance of Letter of Offer Pursuant to Section 36(b)(1) of the Arms Export Control Act, as amended

(i) Prospective Purchaser: Iraq.

(ii) Total Estimated Value:

Major Defense Equipment * | $0 million.
Other | 60 million.
Total | 60 million.

(iii) Description and Quantity or Quantities of Articles or Services under Consideration for Purchase: Commercially available Federal Aviation Administration Air Traffic Control and Landing Systems/Navigational Aids. The system will include an ASR-11 Radar, Autotrac II simulator, Instrument Landing System, and Airfield Lighting System, spare and repair parts, support equipment, personnel training and training equipment, publications and technical documentation, site survey, installation, U.S. Government and contractor engineering and logistics support services, and other related elements of logistics and program support.

(iv) Military Department: Air Force (QAZ).

(v) Prior Related Cases, if any: None.

(vi) Sales Commission, Fee, etc., Paid, Offered, or Agreed to be Paid: None.

(vii) Sensitivity of Technology Contained in the Defense Article or Defense Services Proposed to be Sold: None.

(viii) Date Report Delivered to Congress: 15 August 2012.

POLICY JUSTIFICATION

Iraq—Air Traffic Control and Landing System

The Government of Iraq has requested a proposed sale of commercially available Federal Aviation Administration Air Traffic Control and Landing System/Navigational Aids. The system will include an ASR-11 Radar, Autotrac II simulator, Instrument Landing System, and Airfield Lighting System, spare and repair parts, support equipment, personnel training and training equipment, publications and technical documentation, site survey, installation, U.S. Government and contractor engineering and logistics support services, and other related elements of logistics and program support. The estimated cost is $60 million.

This proposed sale will contribute to the foreign policy and national security of the United States by helping to improve the security of a friendly country.

The proposed sale will contribute to Iraq's continued efforts toward rebuilding their airfield systems at Tikrit Air Base for near-term basing of multiple aircraft. The renovations and upgrades to the airfield and its systems will allow for greater ease in launch and recovery of aircraft and will benefit the overall sustainment of aircraft and affiliated systems over time. This equipment aids Iraq's continuing reconstruction effort that directly improves Iraq's ability to control its own airspace.

The proposed sale of this equipment and support will not alter the basic military balance in the region.

The prime contractor is unknown and will be selected through competitive process. There are no known offset agreements proposed in connection with this potential sale.

Implementation of this proposed sale will not require the assignment of any additional U.S. Government or contractor representatives to Iraq.

There will be no adverse impact on U.S. defense readiness as a result of this proposed sale.

[FR Doc. 2012-20976 Filed 8-24-12; 8:45 am]

BILLING CODE 5001-06-P